DEPARTMENT OF JUSTICE

Office of Justice Programs

[OJP (BJA) Docket No. 1690]

Conference Call Meeting of the Department of Justice's (DOJ's) National Motor Vehicle Title Information System (NMVTIS) Federal Advisory Committee

AGENCY: Office of Justice Programs (OJP), Justice.

ACTION: Notice of conference call meeting.

SUMMARY: This is an announcement of a conference call meeting of DOJ's National Motor Vehicle Title Information System (NMVTIS) Federal Advisory Committee to discuss various issues relating to the operation and implementation of NMVTIS.

DATES: The conference call meeting will take place on Monday, June 15, 2015, from 1:00 p.m. to 3:00 p.m. ET.

ADDRESSES: The meeting will take place as a conference call hosted by the Bureau of Justice Assistance.

FOR FURTHER INFORMATION CONTACT: Todd Brighton, Designated Federal Employee (DFE), Bureau of Justice Assistance, Office of Justice Programs, 810 7th Street NW., Washington, DC 20531; Phone: (202) 616-3879 [note: this is not a toll-free number]; Email: Todd.Brighton@usdoj.gov.

SUPPLEMENTARY INFORMATION: This conference call meeting is open to the public. Members of the public who wish to dial into the call must register with Mr. Brighton at the above email address at least seven (7) days in advance of the meeting. Anyone requiring special accommodations should notify Mr. Brighton at least seven (7) days in advance of the meeting.

Purpose

The NMVTIS Federal Advisory Committee will provide input and recommendations to the Office of Justice Programs (OJP) regarding the operations and administration of NMVTIS. The primary duties of the NMVTIS Federal Advisory Committee will be to advise the Bureau of Justice Assistance (BJA) Director on NMVTIS-related issues, including but not limited to: Implementation of a system that is self-sustainable with user fees; options for alternative revenue-generating opportunities; determining ways to enhance the technological capabilities of the system to increase its flexibility; and options for reducing the economic burden on current and future reporting entities and users of the system.

Todd Brighton,
NMVTIS Enforcement Coordinator, Bureau of Justice Assistance, Office of Justice Programs.

[FR Doc. 2015-13779 Filed 6-10-15; 8:45 am]

BILLING CODE 4410-18-P